DEPARTMENT OF COMMERCE

Foreign-Trade Zones Board

[Docket 12-2011]

Foreign-Trade Zone 3—San Francisco, California; Application for Subzone; Valero Refining Company—California (Oil Refinery), Benicia, California

An application has been submitted to the Foreign-Trade Zones Board (the Board) by the Port of San Francisco, grantee of FTZ 3, requesting special-purpose subzone status for the oil refining facilities of Valero Refining Company—California (Valero), located in Benicia, California. The application was submitted pursuant to the provisions of the Foreign-Trade Zones Act, as amended (19 U.S.C. 81a-81u), and the regulations of the Board (15 CFR part 400). It was formally filed on February 17, 2011.

The Valero facilities (511 employees, 153,000 barrel per day capacity) consist of 4 sites in Solano County: Site 1 (510 acres) main refinery complex, located at 3400 East 2nd Street, Benicia; Site 2 (53 acres) crude tank farm, located southeast of the main refinery complex, Benicia; Site 3 (11.31 acres) crude dock, located on Pier 95, near the Benicia-Martinez Bridge, Benicia; and Site 4 (1.34 acres) coke facilities, located on Pier 95, near the Benicia-Martinez Bridge, Benicia. The refinery is used to produce fuels and other petroleum products. Products include gasoline, diesel, jet fuel, propane, butane, fuel oil, residual oil, and asphalt. Some 40 percent of the crude oil is sourced from abroad.

Zone procedures would exempt the refinery from customs duty payments on the foreign products used in its exports. On domestic sales, the company would be able to choose the customs duty rates that apply to certain petroleum products and refinery by-products (duty-free) by admitting incoming foreign crude in non-privileged foreign status. The duty rates on inputs range from 5.25 cents/barrel to 10.5 cents/barrel. FTZ designation would further allow Valero to realize logistical benefits through the use of weekly customs entry procedures. Customs duties also could possibly be deferred or reduced on foreign status production equipment. The request indicates that the savings from FTZ procedures would help improve the refinery's international competitiveness.

In accordance with the Board's regulations, Elizabeth Whiteman of the FTZ Staff is designated examiner to evaluate and analyze the facts and information presented in the application and case record and to report findings and recommendations to the Board.

Public comment is invited from interested parties. Submissions (original and 3 copies) shall be addressed to the Board's Executive Secretary at the address below. The closing period for their receipt is April 25, 2011. Rebuttal comments in response to material submitted during the foregoing period may be submitted during the subsequent 15-day period to May 10, 2011.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz.

FOR FURTHER INFORMATION CONTACT: Elizabeth Whiteman at Elizabeth.Whiteman@trade.gov or (202) 482-0473.

Dated: February 17, 2011.
Andrew McGilvray,
Executive Secretary.

[FR Doc. 2011-4208 Filed 2-23-11; 8:45 am]

BILLING CODE 3510-DS-P